DEPARTMENT OF HOMELAND SECURITY

Transportation Security Administration

[Docket No. TSA-2004-17131]

Extension of Agency Information Collection Activity Under OMB Review: Aircraft Repair Station Security

AGENCY: Transportation Security Administration, DHS.

ACTION: 30-day notice.

SUMMARY: This notice announces that the Transportation Security Administration (TSA) has forwarded the Information Collection Request (ICR), Office of Management and Budget (OMB) control number 1652-0060, abstracted below to OMB for review and approval of a revision of the currently approved collection under the Paperwork Reduction Act (PRA). The ICR describes the nature of the information collection and its expected burden. TSA published a Federal Register notice, with a 60-day comment period soliciting comments, of the following collection of information on September 1, 2015, 80 FR 52777. The collection involves recordkeeping requirements and petitions for reconsideration for certain aircraft repair stations.

DATES: Send your comments by December 23, 2015. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Joanna Johnson, TSA PRA Officer, Office of Information Technology (OIT), TSA-11, Transportation Security Administration, 601 South 12th Street, Arlington, VA 20598-6011; telephone (571) 227-3651; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Aircraft Repair Station Security.

Type of Request: Revision of a currently approved collection.

OMB Control Number: 1652-0060.

Forms(s): [NA].

Affected Public: Aircraft Repair Stations.

Abstract: In accordance with TSA's authority and responsibility over aviation security, TSA conducts inspections of certain aircraft repair stations located within the United States, and outside of the United States to ensure compliance with the requirements of 49 CFR part 1554. This includes the collection of information relating to recordkeeping of employment history records, petitions for reconsideration, and compliance with the recordkeeping requirements of Security Directives.

TSA is revising the collection to exclude paper and desk audits. As required by 49 U.S.C. 44924, TSA has completed a security review and audit of the 707 repair stations outside the United States. Therefore, there is no further requirement in the regulations to perform these audits.

Number of Respondents: 15.¹

¹ In the 60 day notice, TSA estimated that it had a total of 432 respondents (152 respondent repair stations located in the United States and 280 respondent repair stations located outside the United States) and an estimated annual burden of 657 hours (355 outside the United States and 312 within the United States). Since the publication of the notice, TSA has moved from requesting a renewal of the collection to a revision. TSA will no longer be collecting information to complete paper and desk audits. Therefore, the respondents and annual burden have been significantly reduced.

Estimated Annual Burden Hours: An estimated 118 hours annually.

Dated: November 18, 2015.
Joanna Johnson,
TSA Paperwork Reduction Act Officer, Office of Information Technology.

[FR Doc. 2015-29809 Filed 11-20-15; 8:45 am]

BILLING CODE 9110-05-P